DEPARTMENT OF THE INTERIOR

Bureau of Land Management

[OR-130-2810-HT; GP1-0004]

Fire Closure Regulated and Public Lands Restrictions Lifted: Washington

AGENCY: Bureau of Land Management, Spokane District.

NOTICE: Notice of Regulated Fire Closure and Restrictions For Bureau of Land Management Public Lands in the State of Washington are Lifted.

SUMMARY: Pursuant to 43 CFR 9212 and the Federal Register Notice dated July 28, 2000 (FR-0307), fire restrictions are lifted on public lands within the Spokane District, Bureau of Land Management (BLM) including Juniper Forest/Juniper Dunes Recreation Area, and areas surrounding Hog Canyon, Miller Ranch/Fishtrap, Pacific Lake, Twin Lakes, Coffeepot, Yakima River Canyon, Douglas Creek, Chopaka/Palmer Mountain, Split Rock, Liberty, Saddle Mountains, Lakeview Ranch/Lake Creek, Boundary Dam, and Escure Ranch/Rock Creek recreation sites.

FOR FURTHER INFORMATION CONTACT: Scott Boyd, Fire Management Officer, Bureau of Land Management, Spokane District Officer, 1103 N. Fancher Road, Spokane Washington, 99212; or call (509) 536-1200.

Dated: October 6, 2000.
Joseph K. Buesing,
District Manager.

[FR Doc. 00-26306 Filed 10-12-00; 8:45 am]

BILLING CODE 4310-33-P